ENVIRONMENTAL PROTECTION AGENCY

[FRL-6725-3]

Science Advisory Board; Notification of Public Advisory Committee Meeting

Meeting Notice—Executive Committee—July 12-13, 2000

Pursuant to the Federal Advisory Committee Act, Public Law 92-463, notice is hereby given that the Science Advisory Board's (SAB's) Executive Committee will conduct a public meeting on Wednesday and Thursday, July 12-13, 2000. The meeting will convene each day at 8:30 am at the EPA Office of Administration Auditorium located at 79 T.W. Alexander Drive in Research Triangle Park, NC and adjourn no later than 5:30 pm. All times noted are Eastern Daylight Time. The meeting is open to the public, however, seating is limited and available on a first come basis.

Purpose of the Meeting—At this meeting, the Executive Committee will receive updates from its committees and subcommittees concerning their recent and planned activities. As part of these updates, some committees will present draft reports for Executive Committee review and approval. Tentatively anticipated drafts include, but are not limited to the Executive Committee Scientific and Technological Achievement Awards Subcommittee: Review of the Report on “Scientific and Technological Achievement Awards.”

As part of this two day meeting, the Executive Committee will also: (a) meet with various Agency officials to discuss matters of mutual interest such as the scope and breadth of R&D activities performed at RTP, including a poster presentation the afternoon of July 12 to be held in Classroom One of the Environmental Research Center, Highway 54 and T. W. Alexander Drive, Research Triangle Park, NC; (b) receive briefings from Agency staff on various topics, including an update of the Integrated Risk Information System (IRIS) project; (c) conduct the third in a series of Workshops on the role of science in some of the Agency's innovative approaches to environmental decisionmaking focusing on new approaches to stakeholder involvement; and, (d) discuss options for activities the Board might undertake to improve the use of science at the science policy interface.

Availability of Materials—The timing of these events will be included in an agenda for the meeting that should be available one week prior to the meeting. Drafts of the reports that will be reviewed at the meeting should be available to the public at the SAB website (http://www.epa.gov/sab) by close-of-business on July 5.

For Further Information—Any member of the public wishing further information concerning this meeting or wishing to submit brief oral comments should contact Dr. John R. Fowle III, Designated Federal Officer (DFO) for the Executive Committee, in writing, no later than close of business July 7, 2000 at USEPA Science Advisory Board (1400A), 1200 Pennsylvania Avenue, NW, Washington, DC 20460; fax (202) 501-0323; or via e-mail at <fowle.john@epa.gov>. Those wishing further information concerning the meeting should contact Dr. Fowle at (202) 564-4533.

Providing Oral or Written Comments at SAB Meetings

It is the policy of the Science Advisory Board to accept written public comments of any length, and to accommodate oral public comments whenever possible. The Science Advisory Board expects that public statements presented at its meetings will not be repetitive of previously submitted oral or written statements. Oral Comments: In general, each individual or group requesting an oral presentation at a face-to-face meeting will be limited to a total time of ten minutes. For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: WordPerfect, Word, or Rich Text files (in IBM-PC/Windows 95/98 format). Those providing written comments and who attend the meeting are also asked to bring 25 copies of their comments for public distribution.

General Information—Additional information concerning the Science Advisory Board, its structure, function, and composition, may be found on the SAB Website (http://www.epa.gov/sab) and in The FY1999 Annual Report of the Staff Director which is available from the SAB Publications Staff at (202) 564-4533 or via fax at (202) 501-0256. Committee rosters, draft Agendas and meeting calendars are also located on our website.

Meeting Access—Individuals requiring special accommodation at this meeting, including wheelchair access to the conference room, should contact the DFO at least five business days prior to the meeting so that appropriate arrangements can be made.

Dated: June 19, 2000.
Donald G. Barnes,
Staff Director, Science Advisory Board.

[FR Doc. 00-16177 Filed 6-26-00; 8:45 am]

BILLING CODE 6560-50-P